DEPARTMENT OF DEFENSE

Department of the Army

[Docket ID: USA-2012-0010]

Privacy Act of 1974; System of Records

AGENCY: Department of the Army, DoD.

ACTION: Notice to delete three systems of records.

SUMMARY: The Department of the Army is deleting three systems of records notices in its existing inventory of record systems subject to the Privacy Act of 1974 (5 U.S.C. 552a), as amended.

DATES: This proposed action will be effective on June 11, 2012 unless comments are received which result in a contrary determination.

ADDRESSES: You may submit comments, identified by docket number and title, by any of the following methods:

• Federal Rulemaking Portal: http://www.regulations.gov.

Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827, or by phone at 703-428-6185.

SUPPLEMENTARY INFORMATION: The Department of the Army systems of records notices subject to the Privacy Act of 1974 (5 U.S.C. 552a), as amended, have been published in the Federal Register and are available from the address in FOR FURTHER INFORMATION CONTACT. The proposed deletions are not within the purview of subsection (r) of the Privacy Act of 1974 (5 U.S.C. 552a), as amended, which requires the submission of a new or altered system report.

Dated: May 8, 2012.
Aaron Siegel,
Alternate OSD Federal Register Liaison Officer, Department of Defense.

Deletions

A0351a IRMC

Information Resources Management College Record System (December 18, 2001, 66 FR 65180).

Reason:

The Information Resources Management College Records System has now transferred to the National Defense University. All associated records are covered under SORN DNDU 01 (September 21, 2010, 75 FR 57458). Therefore, the system of records notice can be deleted.

A0351b IRMC

IRMC Student/Faculty/Senior Staff Biography System (December 18, 2001, 66 FR 65180).

Reason:

The IRMC Student/Faculty/Senior Staff Biography System has now transferred to the National Defense University. All associated records are covered under SORN DNDU 01 (September 21, 2010, 75 FR 57458). Therefore, the system of records notice can be deleted.

A0351c IRMC

IRMC Course Evaluation System (December 18, 2001, 66 FR 65180).

Reason:

The IRMC Course Evaluation System has now transferred to the National Defense University. All associated records are covered under SORN DNDU 01 (September 21, 2010, 75 FR 57458). Therefore, the system of records notice can be deleted.

[FR Doc. 2012-11420 Filed 5-10-12; 8:45 am]

BILLING CODE 5001-06-P